NUCLEAR REGULATORY COMMISSION

Progress Energy; Notice of Receipt and Availability of Application for a Combined License

On February 19, 2008, Progress Energy (PE, or the applicant) filed with the Nuclear Regulatory Commission (NRC, the Commission) pursuant to Section 103 of the Atomic Energy Act and 10 CFR part 52, an application for a combined license (COL) for two AP1000 advanced passive pressurized water power reactors at the Shearon Harris facility near the town of New Hill in Wake County, North Carolina. The reactors are to be identified as Shearon Harris Units 2 and 3.

An applicant may seek a COL in accordance with Subpart C of 10 CFR part 52. The information submitted by the applicant includes certain administrative information such as financial qualifications submitted pursuant to 10 CFR 52.77, as well as technical information submitted pursuant to 10 CFR 52.79. The applicant also requested exemptions from certain requirements of Section IV.A.2.a Appendix D to 10 CFR part 52 and 10 CFR 52.79(a)(44), as documented in part 7 of the application.

Subsequent Federal Register notices will address the acceptability of the tendered COL application for docketing and provisions for participation of the public in the COL review process.

A copy of the application is available electronically at the NRC's Electronic Reading Room at http://www.nrc.gov/reading-rm/adams.html. From this site, members of the public can access the NRC's Agencywide Documents Access and Management Systems (ADAMS), which provides text and files of the NRC's public documents. The ADAMS accession number for the application is ML080580078. Persons who do not have access to ADAMS, or who encounter problems in accessing the documents located in ADAMS, should contact the NRC Public Document Room staff by telephone at 1-800-397-4209 or 301-415-4737, or by e-mail to pdr@nrc.gov. The application may also be viewed electronically on the public computers located at the NRC's Public Document Room (PDR), 01 F21, One White Flint North, 11555 Rockville Pike, Rockville, MD 20852. The PDR reproduction contractor will copy documents for a fee. The application is also available at http://www.nrc.gov/reactors/new-licensing/col.html.

Dated at Rockville, Maryland, this 11th day of March 2008.
For the Nuclear Regulatory Commission.
Serita Sanders,
Project Manager, AP1000 Projects Branch 2, Division of New Reactor Licensing, Office of New Reactors.

[FR Doc. E8-5262 Filed 3-14-08; 8:45 am]

BILLING CODE 7590-01-P